NUCLEAR REGULATORY COMMISSION

[Docket No. 030-33819]

Environmental Assessment and Finding of No Significant Impact Related to Issuance of a License Amendment of U.S. Nuclear Regulatory Commission Byproduct Material License No. 55-14065-03; Unitime Industries, Inc.

I. Summary

The U.S. Nuclear Regulatory Commission (NRC) is considering terminating Byproduct Material License No. 55-14065-03 to authorize the release of the licensee's facilities in Christiansted, St. Croix for unrestricted use and has prepared an Environmental Assessment (EA) and Finding of No Significant Impact (FONSI) in support of this action.

The NRC has reviewed the results of the final survey of the Unitime facility in Christiansted, St. Croix. Unitime Industries was authorized by the NRC from March 23, 1995, until the present to use manufactured watch dials and hands containing luminous paint activated with tritium for the manufacture and repair of timepieces. In November 2001, Unitime Industries ceased operations with licensed materials at the Christiansted, St. Croix site, and requested that the NRC terminate the license. Unitime Industries has conducted surveys of the facility and determined that the facility meets the license termination criteria in Subpart E of 10 CFR Part 20. The NRC staff has evaluated Unitime's request and the results of the surveys, performed a confirmatory survey, and has developed an EA in accordance with the requirements of 10 CFR Part 51. Based on the staff evaluation, the conclusion of the EA is a FONSI on human health and the environment for the proposed licensing action.

II. Environmental Assessment

Introduction

Unitime Industries has requested release, for unrestricted use, of their building located at Parcel 1C, Estate Diamond, Plots 8 and 9, in Christiansted, St. Croix, U. S. Virgin Islands, as authorized for use by NRC License No. 55-14065-03. License No. 55-14065-03 was issued on March 23, 1995, and amended periodically since that time. NRC-licensed activities performed at the Christiansted, St. Croix site were limited to the service and repair of returned timepieces the incorporation of timepiece self-luminous parts into timepieces. These activities were typically performed on bench tops. No outdoor areas were affected by the use of licensed materials. Licensed activities ceased completely in November 2001, and the licensee requested release of the facilities for unrestricted use. Based on the licensee's historical knowledge of the site and the condition of the facilities, the licensee determined that only routine decontamination activities, in accordance with licensee radiation safety procedures, were required. The licensee surveyed the facility and provided documentation that the facility meets the license termination criteria specified in Subpart E of 10 CFR Part 20, “Radiological Criteria for License Termination.”

The Proposed Action

The proposed action is to terminate NRC Radioactive Materials License Number 55-14065-03 and release the licensee's facilities in Christiansted, St. Croix, for unrestricted use. By letters dated November 30, 2001, February 11, 2002, and July 18, 2003, Unitime Industries provided survey results which demonstrate that the Christiansted, St. Croix facility is in compliance with the radiological criteria for license termination in Subpart E of 10 CFR Part 20, “Radiological Criteria for License Termination.” No further actions will be required on the part of the licensee to remediate the facility.

Purpose and Need for the Proposed Action

The purpose of the proposed action is to release the building located at Parcel 1C, Estate Diamond, Plots 8 and 9, in Christiansted, St. Croix, U.S. Virgin Islands, for unrestricted use and to terminate the Unitime Industries materials license. The need for the proposed action is to comply with NRC regulations and the Timeliness Rule. The licensee does not plan to perform any activities with licensed materials at this location. Maintaining the area under a license would reduce options for future use of the property and cause Unitime Industries to continue leasing a building for which it has no more use. NRC is fulfilling its responsibilities under the Atomic Energy Act to make a decision on a proposed license amendment for release of facilities for unrestricted use that ensures protection of the public health and safety and environment.

Alternative to the Proposed Action

The only alternative to the proposed action of terminating the license and releasing the Christiansted, St. Croix facility will result in violation of NRC's Timeliness Rule (10 CFR 30.36), which requires licensees to decommission their facilities when licensed activities cease. The licensee does not plan to perform any activities with licensed materials at these locations. Maintaining the areas under a license would also reduce options for future use of the property.

The Affected Environment and Environmental Impacts

The Unitime building is a one story block building. Work with radioactive materials was done on work benches located within several rooms in the building. Watch parts and finished watches were stored in a safe. The building is located within an industrial park.

The NRC staff has reviewed the surveys performed by Unitime Industries to demonstrate compliance with the 10 CFR 20.1402 license termination criteria and has performed a confirmatory survey. Based on its review and the results of the confirmatory survey, the staff has determined that the affected environment and environmental impacts associated with the decommissioning of the Unitime facility are bounded by the impacts evaluated by the “Generic Environmental Impact Statement in Support of Rulemaking on Radiological Criteria for License Termination of NRC-Licensed Facilities” (NUREG-1496). The staff also finds that the proposed release for unrestricted use of the Unitime Industries facility is in compliance with 10 CFR 20.1402, “Radiological Criteria for Unrestricted Use.” The NRC has found no other activities in the area that could result in cumulative impacts.

Agencies and Persons Contacted and Sources Used

This EA was prepared entirely by the NRC staff. The U. S. Fish and Wildlife Service was contacted and responded by letter dated October 16, 2002, with no opposition to the proposed action. The U.S. Virgin Island's Department of Planning and Natural Resources was also contacted and responded by letter dated October 18, 2002, with no objection.

Conclusion

Based on its review, the NRC staff has concluded that the proposed action complies with 10 CFR Part 20. NRC has prepared this EA in support of the proposed license termination to release the Unitime facility located at Parcel 1C, Estate Diamond, Plots 8 and 9, in Christiansted, St. Croix, U.S. Virgin Islands, for unrestricted use. On the basis of the EA, NRC has concluded that the environmental impacts from the proposed action are not expected to be significant and has determined that preparation of an environmental impact statement for the proposed action is not required.

List of Preparers

Orysia Masnyk Bailey, Materials Licensing/Inspection Branch 1, Division of Nuclear Materials Safety, Health Physicist.

List of References

1. NRC License No. 55-14065-03 inspection and licensing records.

2. Unitime Industries, Inc. “Termination of License for Activities and Storage” Letter from E. Rebmann and B. Buksch to NRC dated November 30, 2001. (ML022060401)

3. Unitime Industries, Inc. “Request for Additional Documents” Letter from E. Rebmann to NRC dated February 11, 2002. (ML020450333)

4. License amendment request and supporting documentation dated July 18, 2003. (ML032030481)

5. NRC Inspection Report No. 55-14065-03/2003-001, dated March 11, 2003. (ML030720115)

6. NRC Inspection Report No. 55-14065-03/2003-001, Supplemental Information dated April 8, 2003. (ML031060560)

7. Title 10 Code of Federal Regulations Part 20, Subpart E, “Radiological Criteria for License Termination.”

8. Federal Register Notice, Volume 65, No. 114, page 37186, dated Tuesday, June 13, 2000, “Use of Screening Values to Demonstrate Compliance With The Federal Rule on Radiological Criteria for License Termination.”

9. NRC. NUREG-1757 “Consolidated NMSS Decommissioning Guidance,” Final Report dated September 2002.

10. NRC. NUREG 1496 “Generic Environmental Impact Statement in Support of Rulemaking on Radiological Criteria for License Termination of NRC-Licensed Nuclear Facilities,” Final Report dated July 1997.

11. Virgin Islands State Historic Preservation Office. “Request for Comments Regarding Cultural and Historical Resources at Unitime Industries, Inc. Parcel 1C, Estate Diamond, Plots 8 and (, Christiansted, St. Croix, U.S.V.I.” Letter from D. E. Plaskett, Esq. To NRC dated October 18, 2002. ( ML023080328)

12. U.S. Fish and Wildlife Service. “Request for comments regarding endangered wildlife, plant and marine resources at a site in U.S. Virgin Islands” Letter from C. A. Diaz to NRC dated October 16, 2002. (ML022950399)

III. Finding of No Significant Impact

Based upon the EA, the staff concludes that the proposed action will not have a significant impact on the quality of the human environment. Accordingly, the staff has determined that preparation of an environmental impact statement is not warranted.

IV. Further Information

The references listed above are available for public inspection and may also be copied for a fee at the NRC's Public Document Room, located at One White Flint North, 11555 Rockville Pike, Rockville, MD 20852. These documents are also available for public review through ADAMS, the NRC's electronic reading room, at: http://www.nrc.gov/reading-rm/adams.html. Any questions with respect to this action should be referred to Orysia Masnyk Bailey, Materials Licensing/Inspection Branch 1, Division of Nuclear Materials Safety, U.S. Nuclear Regulatory Commission, Region II, Suite 23T85, 61 Forsyth Street, SW., Atlanta, Georgia, 30303. Telephone 404-562-4739.

Dated at Atlanta, Georgia, the 15th day of August, 2003.
For the Nuclear Regulatory Commission.
Douglas M. Collins,
Director, Division of Nuclear Materials Safety, Region II.

[FR Doc. 03-22396 Filed 9-2-03; 8:45 am]

BILLING CODE 7590-01-P